BUREAU OF CONSUMER FINANCIAL PROTECTION

Submission for OMB Review; Comment Request

AGENCY: Bureau of Consumer Financial Protection.

ACTION: Notice and request for comment.

SUMMARY: The Bureau of Consumer Financial Protection (Bureau), as part of its continuing effort to reduce paperwork and respondent burden, invites the general public and other federal agencies to take this opportunity to comment on a proposed information collection, as required by the Paperwork Reduction Act of 1995, Public Law 104-13 (44 U.S.C. 3507(a)(1)(D)). The Bureau is soliciting comments regarding the information collection requirements relating to the advisory boards, bodies, panels, committees or other similar groups that the Bureau may establish, including the Consumer Advisory Board required by Title X of the Dodd Frank Wall Street Reform and Consumer Protection Act. The proposed collection has been submitted to the Office of Management and Budget for review and approval. A copy of the submission, including copies of the proposed collection and supporting documentation, may be obtained by contacting the agency contact listed below.

DATES: Written comments are encouraged and must be received on or before July 2, 2012 to be assured of consideration.

ADDRESSES: You may submit comments, identified by the collection title below, to:

Agency: Consumer Financial Protection Bureau (Attention: PRA Office), 1700 G Street NW., Washington, DC 20552; CFPB_Public_PRA@cfpb.gov.

OMB: Shagufta Ahmed, Office of Management and Budget, New Executive Office Building, Room 10235, Washington, DC 20503; (202) 395-7873.

FOR FURTHER INFORMATION CONTACT: Requests for additional information should be directed to the Consumer Financial Protection Bureau (Attention: PRA Office), 1700 G Street NW., Washington, DC 20552, or via email at CFPB_Public_PRA@cfpb.gov.

SUPPLEMENTARY INFORMATION: Title: Applications for Advisory Boards, Groups, and Committees.

OMB Number: 3170-XXXX.

Abstract: The Dodd-Frank Wall Street Reform and Consumer Protection Act (Dodd-Frank Act), Public Law 111-203, Title X, Section 1014 (12 U.S.C. 5494) requires the Director of the Bureau to establish a Consumer Advisory Board (CAB) to advise and consult with the Bureau in the exercise of its functions under the federal consumer financial laws, and to provide information on emerging practices in the consumer financial products or services industry, including regional trends, concerns, and other relevant information. In addition to the CAB, the Bureau anticipates that it may establish additional advisory boards, bodies, panels, committees or other similar groups (collectively referred to as “other Advisory Groups”) to advise and consult with the Bureau in the exercise of its functions. The CAB and other Advisory Groups may invite individuals with special expertise to advise the groups on an ad hoc basis (Special Advisors).

The Bureau seeks to collect selection-related information from nominees to the CAB, such as background information, information related to financial disclosures, and other supplemental information relevant to the application process. The Bureau may collect similar information from potential candidates for other Advisory Groups, members of other Advisory Groups, and Special Advisors to CAB and other Advisory Groups, as relevant to the particular group.

This information collection will allow the Bureau to obtain information on the qualifications of individuals nominated to the CAB and will aid the Bureau in its selection of members for other Advisory Groups. The information collection also will aid the Bureau in selecting Special Advisors to the CAB and other Advisory Groups.

Once selected, Bureau staff may ask members of CAB and other Advisory Groups and Special Advisors, as part of their participation, to respond to questions asked to the CAB and other Advisory Groups or Special Advisors, or to provide information/advice based upon their expertise on issues before the CAB and other Advisory Groups related to the Bureau's exercise of its functions. Collection instruments for the CAB may include nomination forms with questions about assets and income, affiliations and representations, financial interests and liabilities, and relevant professional experience. Collection instruments for other Advisory Groups or for Special Advisors may include questionnaires about professional experience relevant to the particular group or may include certifications regarding financial interests relevant to a particular group or a particular meeting. Additionally, nominees, members, former members, and Special Advisors may be asked to provide information/feedback on their experiences as related to the selection process or participation in the group. Collection instruments likely will include feedback forms and other similar questionnaires about the participant's experience on or with the CAB or other Advisory Groups, including their experience with the Bureau's information collections.

Type of Review: New generic collection.

Affected Public: Individuals, and for certain groups individual business representatives.

Estimated Number of Responses: 277.

Estimated Time per Respondent: 25.

Estimated Total Annual Burden Hours: 6,925.

Approved: May 23, 2012.
Chris Willey,
Chief Information Officer, Bureau of Consumer Financial Protection.

[FR Doc. 2012-13260 Filed 5-31-12; 8:45 am]

BILLING CODE 4810-AM-P